SOCIAL SECURITY ADMINISTRATION

[Docket No. SSA-2024-0005]

Privacy Act of 1974; Matching Program

AGENCY: Social Security Administration (SSA).

ACTION: Notice of a new matching program.

SUMMARY: In accordance with the provisions of the Privacy Act, as amended, this notice announces a new matching program with the Department of Defense (DOD), Defense Manpower Data Center (DMDC).

DATES: Submit comments on the proposed matching program no later than May 28, 2024.

The matching program will be applicable on May 28, 2024, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2024-0005 so that we may associate your comments with the correct regulation.

Caution: You should be careful to include in your comments only information that you wish to make publicly available. We strongly urge you not to include in your comments any personal information, such as Social Security numbers or medical information.

1. Internet: We strongly recommend that you submit your comments via the internet. Please visit the Federal eRulemaking portal at http://www.regulations.gov. Use the Search function to find docket number SSA-2024-0005 and then submit your comments. The system will issue you a tracking number to confirm your submission. You will not be able to view your comment immediately because we must post each submission manually. It may take up to a week for your comments to be viewable.

2. Fax: Fax comments to (833) 410-1631.

3. Mail: Matthew Ramsey, Executive Director, Office of Privacy and Disclosure, Office of the General Counsel, Social Security Administration, G-401 WHR, 6401 Security Boulevard, Baltimore, MD 21235-6401, or emailing Matthew.Ramsey@ssa.gov. Comments are also available for public viewing on the Federal eRulemaking portal at http://www.regulations.gov or in person, during regular business hours, by arranging with the contact person identified below.

FOR FURTHER INFORMATION CONTACT: Interested parties may submit general questions about the matching program to Cynthia Scott, Division Director, Office of Privacy and Disclosure, Office of the General Counsel, Social Security Administration, G-401 WHR, 6401 Security Boulevard, Baltimore, MD 21235-6401, at telephone: (410) 966-1943, or send an email to Cynthia.Scott@ssa.gov.

SUPPLEMENTARY INFORMATION: Under this matching program, DoD/DMDC will disclose military retirement payment and survivor benefit payment data to SSA. SSA will use the military retirement payment and survivor benefit payment data to verify information provided by applicants, recipients, deemors (i.e., someone other than the eligible individual or eligible spouse whose income and resources are considered when determining an individual's eligibility for Supplemental Security Income (SSI) and the amount of his or her payment), and beneficiaries of SSI payments and Special Veterans Benefits (SVB).

Matthew Ramsey,
Executive Director, Office of Privacy and Disclosure, Office of the General Counsel.

PARTICIPATING AGENCIES:

SSA and DoD/DMDC.

AUTHORITY FOR CONDUCTING THE MATCHING PROGRAM:

This matching agreement between SSA and DoD/DMDC is executed pursuant to the Privacy Act of 1974, as amended by the Computer Matching and Privacy Protection Act of 1988, and the Computer Matching Privacy Protections Amendments of 1990 (Privacy Act) (5 U.S.C. 552a) and the regulations and guidance promulgated thereunder, including Office of Management and Budget (OMB) Circular No. A-108, “Federal Agency Responsibilities for Review, Reporting, and Publication under the Privacy Act,” published at 81 Federal Register 94424 (Dec. 23, 2016); OMB Circular No. A-130, “Managing Information as a Strategic Resource,” published at 61 FR 49689 (July 15, 2016); and “Privacy Act of 1974: Final Guidance Interpreting the Provisions of Public Law 100-503, the Computer Matching and Privacy Protection Act of 1988,” published at 54 FR 25818 (June 19, 1989).

The legal authority for this exchange is sections 806(b) and 1631(e)(1)(B) and (f) of the Social Security Act (Act) (42 U.S.C. 1006(b) and 1383(e)(1)(B) and (f)). SSA's legal authority to disclose data to DoD/DMDC is section 1106(a) of the Act (42 U.S.C. 1306(a)) and section (b)(3) of the Privacy Act (5 U.S.C. 552a(b)(3)).

PURPOSE(S):

This agreement sets forth the terms, conditions, and safeguards under which the DoD/DMDC will disclose military retirement payment and survivor benefit payment data to the SSA. SSA will use the military retirement payment and survivor benefit payment data to verify information provided by applicants, recipients, deemors (i.e., someone other than the eligible individual or eligible spouse whose income and resources are considered when determining an individual's eligibility for Supplemental Security Income (SSI) and the amount of their payment), and beneficiaries of SSI payments and Special Veterans Benefits (SVB).

The SSI and SVB applicants, recipients, deemors, and beneficiaries provide information about eligibility and entitlement factors (e.g., income, resources, living arrangements). SSA obtains additional information, as necessary, before making any determinations of eligibility, payments, entitlement or benefit amounts or adjustments thereto. Military retirement payments to SSI and SVB applicants, recipients, deemors, and beneficiaries include retired members, or their survivors, of the Uniformed Services, i.e., Army; Navy; Air Force; Marine Corps; Coast Guard; Space Force; and Commissioned Corps of the National Oceanic and Atmospheric Administration (but not including the Commissioned Corps of the U.S. Public Health Service). SSA will obtain military retirement payments through a computer matching program with DoD/DMDC.

CATEGORIES OF INDIVIDUALS:

The individuals whose information is involved in this matching program are SSI and SVB applicants, recipients, deemors, and beneficiaries including retired members, or their survivors, of the Uniformed Services.

CATEGORIES OF RECORDS:

SSA will provide DoD/DMDC with an electronic finder file using a mutually approved secure file transfer application, such as the MFT application. Upon receipt of the electronic file, DoD/DMDC will perform a computer match using all nine digits of the Social Security Number (SSN) against data maintained in the DoD SORN, DMDC 01, “Defense Manpower Data Center Data Base.” In the response file, DoD/DMDC will use a mutually approved secure file transfer, such as the MFT application to furnish SSA with matches to the Retired and Survivor Pay file.

SSA will compare DoD/DMDC's data with SSA data recorded in the Supplemental Security Income Record and Special Veterans Benefits system of records, 60-0103.

SYSTEM(S) OF RECORDS:

SSA will disclose records from the “Supplemental Security Income Record and Special Veterans Benefits” system of records, 60-0103, last fully published at 71 FR 1830 (January 11, 2006), and updated at 72 FR 69723 (December 10, 2007), 83 FR 31250-31251 (July 3, 2018), 83 FR. 54969 (November 1, 2018), and 89 FR 825 (January 5, 2024). DoD/DMDC will disclose records from the following system of records: DMDC 01, entitled “Defense Manpower Data Center Data Base,” last published in full at 84 FR 6383 (February 27, 2019), and amended at 84 FR 8698 (March 11, 2019), 84 FR 15605 (April 16, 2019), and 87 FR 32145 (May 27, 2022).

[FR Doc. 2024-08794 Filed 4-24-24; 8:45 am]

BILLING CODE 4191-02-P